DEPARTMENT OF HEALTH AND HUMAN SERVICES

Administration for Children and Families

Office of Refugee Resettlement; Urgent Single Source Grant to Survivors of Torture International (SOTI)

AGENCY: Office of Refugee Resettlement, ACF, HHS.

ACTION: Notice to Award an Urgent Single Source Grant to Survivors of Torture International (SOTI).

CFDA Number: 93.604.

Legislative Authority: “Torture Victims Relief Act (TVRA) of 1998,” Public Law 105-320 (22 U.S.C. 2152 note), reauthorized by Public Law 109-165 in January 2006. Section 5(a) provides for “Assistance for Treatment of Torture Victims.—The Secretary of Health and Human Services may provide grants to programs in the United States to cover the cost of the following services: (1) Services for the rehabilitation of victims of torture, including treatment of the physical and psychological effects of torture. (2) Social and legal services for victims of torture. (3) Research and training for health care providers outside of treatment centers, or programs for the purpose of enabling such providers to provide the services described in paragraph (1).”

Amount of Award: $271,000.

Project Period: March 1, 2010 through February 28, 2011.

Summary: Notice is hereby given that an urgent single-source award will be made to Survivors of Torture International (SOTI), San Diego, CA, to provide comprehensive rehabilitative services to incoming Iraqi and other survivors of torture, who are in need of specialized services, to regain their health and independence and rebuild productive lives. In addition to providing direct services, SOTI will train area providers to effectively serve this population and leverage resources within the community. SOTI will also focus on building and sustaining collaboration among other providers to serve this population.

In Fiscal Year (FY) 2010, due to an increase in the funding appropriation under the TVRA, an additional amount of $271,000 is available for direct services through the Office of Refugee Resettlement (ORR) Services for Survivors of Torture Program. In FY 2009, a total of 3,667 Iraqi refugees and holders of Special Immigrant Visas were resettled in the San Diego metropolitan area. Some of these individuals have suffered torture prior to arrival in the United States and are in need of specialized services. San Diego, CA, is the area of the country most heavily impacted in terms of Iraqi refugee arrivals. SOTI has a long history of serving torture survivors in San Diego county, has developed a large network of pro bono providers, is well known in the community, and possesses the clinical and programmatic expertise to serve the survivors.

FOR FURTHER INFORMATION CONTACT: Ronald Munia, Director, Division of Community Resettlement, Office of Refugee Resettlement, 901 D Street, SW., Washington, DC 20047. Telephone: 202-401-4559. E-mail: Ronald.Munia@acf.hhs.gov.

Dated: April 28, 2010.
Eskinder Negash,
Director, Office of Refugee Resettlement.

[FR Doc. 2010-10810 Filed 5-6-10; 8:45 am]

BILLING CODE P